DEPARTMENT OF THE INTERIOR

National Park Service

[NPS-WASO-NAGPRA-19933; PPWOCRADN0-PCU00RP14.R50000]

Notice of Inventory Completion: U.S. Department of Defense, Department of the Navy, Washington, DC; Correction

AGENCY: National Park Service, Interior.

ACTION: Notice.

SUMMARY: The U. S. Department of Defense, Department of Navy has corrected an inventory of human remains and associated funerary objects, published in a Notice of Inventory Completion in the Federal Register on March 31, 2014. This notice corrects the minimum number of individuals and the number of associated funerary objects repatriated to the Native Village of Barrow Inupiat Traditional Government.

ADDRESSES: Susan S. Hughes, Department of the Navy, NAVFAC NW., 1101 Tautog Circle, Suite 102, Silverdale, WA 98315-1101, telephone (360) 396-0083, email susan.s.hughes@navy.mil.

SUPPLEMENTARY INFORMATION: Notice is hereby given in accordance with the Native American Graves Protection and Repatriation Act (NAGPRA), 25 U.S.C. 3003, of the correction of an inventory of human remains and associated funerary objects under the control of the Department of Defense. The human remains and associated funerary objects were removed from sites near Point Barrow in North Slope Borough, AK.

This notice is published as part of the National Park Service's administrative responsibilities under NAGPRA, 25 U.S.C. 3003(d)(3). The determinations in this notice are the sole responsibility of the museum, institution, or Federal agency that had control of the Native American human remains and associated funerary objects. The National Park Service is not responsible for the determinations in this notice.

This notice corrects the minimum number of individuals and number of associated funerary objects published in a Notice of Inventory Completion in the Federal Register (79 FR 18058-18059, March 31, 2014). The transfer of these items to the Native Village of Barrow Traditional Government occurred on June 6, 2014. Because the Tribe intended to bury the individuals in their own separate coffins, the human remains were re-examined by a forensic anthropologist at the University of Alaska Museum of the North where they were temporarily stored prior to transfer, to separate the human remains into discrete burials. This resulted in a slight decrease in the number of individuals, from the originally stated 58 to 56 individuals. Concurrently, a comprehensive inventory of the associated funerary objects was made, leading to the discovery that three items of cultural patrimony had been included in the original inventory of associated funerary objects. As these are not considered associated funerary objects, the total number of associated funerary objects decreased from 124 to 121.

Correction

In the Federal Register (79 FR 18058-18059, March 31, 2014), paragraph 7, sentence 1 is corrected by substituting the following sentence:

Between 1951 and 1953, human remains representing, at minimum 56 individuals were removed from the sites of Birnirk, Nunavah, Nuvuk, and other locations near Point Barrow in North Slope Borough, AK

In the Federal Register (79 FR 18058-18059, March 31, 2014), paragraph 7, sentence 5 is corrected by substituting the following sentence:

The 121 associated funerary objects include: 32 wooden objects (wound plugs, dish, dart or arrow shafts, drill shaft; scoop, whale effigy, sod pick handle, seal scratcher, paddles, and other objects); 24 ivory objects (needle case, kayak paddle, harpoon heads, lance point, pins, awl, handles, and other objects); 25 bone and tooth objects (harpoon heads, bow brace, ice pick, bola weights, trap components, weapon tips or points, worked bear canines, and other objects); 11 antler objects (bird dart heads, harpoon heads, and worked antler); 7 stone objects (burin, ground stone knife, whetstone, project point, hearthstone, and other stone objects); 4 objects made from skin, fur, or baleen (2 sewn sealskins, baleen effigy, bear fur), 2 marine shells, and 16 ceramic sherds.

The U.S. Department of Defense, Department of the Navy is responsible for notifying the Native Village of Barrow Inupiat Traditional Government that this notice has been published.

Dated: December 8, 2015.
Amberleigh Malone,
Acting Manager, National NAGPRA Program.

[FR Doc. 2016-00071 Filed 1-6-16; 8:45 am]

BILLING CODE 4312-50-P